DEPARTMENT OF DEFENSE

Office of the Secretary

Meeting of Department of Defense Federal Advisory Committees—Defense Innovation Board

AGENCY: Office of the Under Secretary of Defense for Research and Engineering, Department of Defense (DoD).

ACTION: Meeting of Federal Advisory Committee.

SUMMARY: The DoD is publishing this notice to announce that the following Federal Advisory Committee meeting of the Defense Innovation Board (DIB) will take place.

DATES: Open to the public November 14, 2023, 4 p.m. to 5 p.m.

ADDRESSES: The DIB meeting will take place virtually.

FOR FURTHER INFORMATION CONTACT: Dr. Marina Theodotou, the Designated Federal Officer (DFO) at (571)-372-7344 (voice) marina.theodotou.civ@mail.mil and osd.innovation@mail.mil. Mailing address is Defense Innovation Board, 4800 Mark Center Drive, Suite 16F09-02, Alexandria, VA 22350-3600. Website: https://innovation.defense.gov/. The most up-to-date changes to the meeting agenda and link to the virtual meeting can be found on the website.

SUPPLEMENTARY INFORMATION: This meeting is being held under the provisions of chapter 10 of title 5, United States Code (U.S.C.) (commonly known as the “Federal Advisory Committee Act” or “FACA”), 5 U.S. C 552b (commonly known as the “Government in the Sunshine Act”), and 41 Code of Federal Regulations (CFR) 102-3.140 and 102-3.150.

Purpose of the Meeting: The mission of the DIB is to provide the Secretary of Defense, the Deputy Secretary of Defense, and the Under Secretary of Defense for Research and Engineering (USD(R&E)) independent advice and strategic insights on emerging and disruptive technologies and their impact on national security, adoption of commercial sector innovation best practices, and ways to leverage the U.S. innovation ecosystem to align structures, processes, and human capital practices to accelerate and scale innovation adoption, foster a culture of innovation and an experimentation mindset, and enable the DoD to build enduring advantages. The DIB focuses on innovation-related issues and topics raised by the Secretary of Defense, the Deputy Secretary of Defense, or the USD(R&E). The objective of this DIB meeting is to obtain, review, and evaluate information related to the DIB's mission and studies.

Agenda: The DIB's public meeting is open to the public and will take place on November 14th, 2023, from 4 p.m.-5 p.m. The DFO, Dr. Marina Theodotou, will open the meeting and introduce the DIB Chair, Michael Bloomberg for his welcome and opening remarks. The DIB members leading the first study will present their findings and recommendations to the DIB for its deliberation and vote on the studies. The DIB members leading the second study will present an in-progress review for the DIB to discuss. The open meeting will conclude with closing remarks by the DIB's Chair and adjournment of the meeting.

Written Statements: Pursuant to 41 CFR 102-3.105(j) and 102-3.140 and section 1009(a)(3) of the FACA, the public or interested organizations may submit written comments or statements to the DIB in response to the stated agenda of the meeting or regarding the DIB's mission in general. Written comments or statements should be submitted to Dr. Marina Theodotou, the DFO, via email to marina.theodotou.civ@mail.mil and osd.innovation@mail.mil. Comments or statements must include the author's name, title or affiliation, address, and daytime phone number. The DFO must receive written comments or statements being submitted in response to the agenda set forth in this notice by 12 p.m. on November 9, 2023, to be considered by the DIB. The DFO will review all timely submitted written comments or statements with the DIB Chair and ensure the comments are provided to all members before the meeting. Written comments or statements received after this date may not be provided to the DIB until its next scheduled meeting. Please note that all submitted comments and statements will be treated as public documents and will be made available for public inspection, including, but not limited to, being posted on the DIB's website.

Dated: October 20, 2023.
Patricia L. Toppings,
OSD Federal Register Liaison Officer, Department of Defense.

[FR Doc. 2023-23569 Filed 10-24-23; 8:45 am]

BILLING CODE 6001-FR-P